DEPARTMENT OF ENERGY

Federal Energy Regulatory Commission

[Project No. 2493-006]

Puget Sound Energy, Inc.; Notice of Technical Meeting To Discuss Additional Information Filed With Regards to the Pending License Application

December 19, 2003.

a. Date and Time of Meeting: Tuesday, January 20, 2004, at 11 a.m. eastern standard time.

b. Place: Federal Energy Regulatory Commission, 888 First Street, NE., Washington, DC. To participate by phone, see item (f).

c. FERC Contact: Nicholas Jayjack, 202-502-6073 or Nicholas.Jayjack@ferc.gov.

d. Purpose of Meeting: Puget Sound Energy (Puget) has requested a meeting with Commission staff to discuss Puget's “Summary of Proposed License Elements” filed with the Commission on December 9, 2003, for the Snoqualmie Falls Hydroelectric Project. The project is located on the Snoqualmie River in Snoqualmie, Washington.

e. Proposed Agenda: (1) Introduction of participants; (2) Puget Sound Energy's presentation on the purpose of the meeting; (3) Discussion; and (4) Meeting Wrap-up.

f. All local, State, and Federal agencies, Indian tribes, and other interested parties and individuals are invited to participate either in person or by telephone. Please RSVP Nicholas Jayjack at Nicholas.Jayjack@ferc.gov by no later than January 14, 2004, and indicate how you will participate (telephone or in person). If participating by telephone, you will receive calling instructions when you RSVP. It is encouraged that those participating by telephone assemble together as much as possible to ensure that there will be a sufficient number of open telephone lines to accommodate all participants.

Magalie R. Salas,
Secretary.

[FR Doc. E3-00657 Filed 12-29-03; 8:45 am]

BILLING CODE 6717-01-P